NUCLEAR REGULATORY COMMISSION

[NRC-2010-0031]

Notice of Issuance of Regulatory Guide

AGENCY: Nuclear Regulatory Commission.

ACTION: Notice of Issuance and Availability of Regulatory Guide 4.16, Revision 2, “Monitoring and Reporting Radioactive Materials in Liquid and Gaseous Effluents from Nuclear Fuel Cycle Facilities.”

FOR FURTHER INFORMATION CONTACT: Mekonen M. Bayssie, Regulatory Guide Development Branch, Division of Engineering, Office of Nuclear Regulatory Research, U.S. Nuclear Regulatory Commission, Washington, DC 20555-0001, telephone (301) 251-7489 or e-mail Mekonen.Bayssie@nrc.gov.

SUPPLEMENTARY INFORMATION:

I. Introduction

The U.S. Nuclear Regulatory Commission (NRC) is issuing a revision to an existing guide in the agency's “Regulatory Guide” series. This series was developed to describe and make available to the public information such as methods that are acceptable to the NRC staff for implementing specific parts of the agency's regulations, techniques that the staff uses in evaluating specific problems or postulated accidents, and data that the staff needs in its review of requests for licensing actions. In March 2010, Revision 2 of Regulatory Guide 4.16, “Monitoring and Reporting Radioactive Materials in Liquid and Gaseous Effluents from Nuclear Fuel Cycle Facilities,” was published as Draft Regulatory Guide, DG-4017, with a public comment period of 60 days. This guide describes a method that the staff of the NRC considers acceptable for the development and implementation of effluent monitoring programs described in license applications and for monitoring and reporting effluent data by licensees. The guidance is applicable to nuclear fuel cycle facilities, with the exception of uranium milling facilities and nuclear power reactors. The NRC has developed other regulatory guides applicable to those facilities.

Revision of this regulatory guide is necessary to update references and practices and to communicate its applicability to the enrichment plants which have come under the regulatory authority of the NRC since the issuance of Revision 1 of the guide.

II. Further Information

The staff's responses to the public comments received on DG-4017 are located in the NRC's Agencywide Documents Access and Management System (ADAMS) under Accession Number ML101720322. The regulatory analysis may be found in ADAMS under Accession No. ML101720311. Electronic copies of Regulatory Guide 4.16, Revision 2 are available through the NRC's public Web site under “Regulatory Guides” at http://www.nrc.gov/reading-rm/doc-collections/.

In addition, regulatory guides are available for inspection at the NRC's Public Document Room (PDR) located at Room O-1F21, One White Flint North, 11555 Rockville Pike, Rockville, Maryland 20852-2738. The PDR's mailing address is USNRC PDR, Washington, DC 20555-0001. The PDR can also be reached by telephone at (301) 415-4737 or (800) 397-4209, by fax at (301) 415-3548, and by e-mail to pdr.resource@nrc.gov.

Regulatory guides are not copyrighted, and NRC approval is not required to reproduce them.

Dated at Rockville, Maryland this 15th day of December, 2010.
For the Nuclear Regulatory Commission.
John N. Ridgely,
Acting Chief, Regulatory Guide Development Branch, Division of Engineering, Office of Nuclear Regulatory Research.

[FR Doc. 2010-32448 Filed 12-27-10; 8:45 am]

BILLING CODE 7590-01-P